DEPARTMENT OF ENERGY

Federal Energy Regulatory Commission

[Docket Nos. EC06-42-000, et al.]

Entergy Services, Inc. et al.; Electric Rate and Corporate Filings

December 20, 2005.

The following filings have been made with the Commission. The filings are listed in ascending order within each docket classification.

1. Entergy Services, Inc. et al.

[Docket Nos. EC06-42-000; ES06-20-000]

Take notice that on December 16, 2005, Entergy Services, Inc. (Entergy Services) filed with the Federal Energy Regulatory Commission (Commission) an application on behalf of its associate companies, Entergy Arkansas, Inc. (Entergy Arkansas), Entergy Gulf States, Inc. (Entergy Gulf States), Entergy Louisiana, LLC (as successor to Entergy Louisiana, Inc.), Entergy Mississippi, Inc. (Entergy Mississippi), System Energy Resources, Inc. (System Energy), Entergy Corporation (Entergy) and Entergy Louisiana Holdings, Inc. (Entergy Louisiana Holdings) (collectively the Applicants) pursuant to section 204 of the Federal Power Act to issue and sell short-term debt securities. Applicants are also requesting pursuant to section 203(a) of the Federal Power Act a blanket authorization to acquire securities issued by associate companies having a value in excess of $10 million, subject to various conditions.

Comment Date: 5 p.m. eastern time on January 6, 2006.

2. Duke Energy Trading and Marketing, L.L.C.

[Docket No. EC06-43-000]

Take notice that on December 16, 2005, Duke Energy Trading and Marketing L.L.C. (DETM) and BP Energy Company, (BP) filed with the Commission an application pursuant to section 203 of the Federal Power Act for authorization of the transfer by DETM of a wholesale power transaction to BP. DETM and BP have requested privileged treatment for commercially sensitive information contained in the application.

Comment Date: 5 p.m. eastern time on January 6, 2006.

3. Duke Energy Marketing America, LLC and J. Aron & Company

[Docket No. EC06-44-000]

Take notice that, on December 16, 2005, Duke Energy Marketing America, LLC (DEMA) and J. Aron & Company (J. Aron) filed with the Commission an application pursuant to section 203 of the Federal Power Act for authorization of the transfer by DEMA of a wholesale power transaction to J. Aron. Pursuant to 18 CFR 388.112, DEMA and J. Aron have requested privileged treatment for commercially sensitive information contained in the application.

Comment Date: 5 p.m. eastern time on January 6, 2006.

4. City of Pasadena, California

[Docket No. EL05-18-001]

Take notice that on October 11, 2005, the City of Pasadena, California confirmation that it has paid to the California Independent System Operator Corporation refunds required under the Commission's July 26, 2005 “Order Approving Uncontested Settlement”.

Comment Date: 5 p.m. eastern time on December 28, 2005.

5. Snohomish County, Washington v. Enron Power Marketing, Inc.

[Docket No. EL05-139-001]

Take notice that on December 7, 2005, Public Utility District No. 1 of Snohomish County, Washington (Snohomish) pursuant to sections 205, 206, 306, and 309 of the Federal Power Act, and 18 CFR 385.206(e), tendered for filing an amendment to supplement its Petition originally filed on August 5, 2005. Snohomish further request privileged treatment for this filing.

Comment Date: 5 p.m. eastern time on January 17, 2006.

6. The Goldman Sachs Group, Inc.

[Docket No. EL06-27-000]

Take notice that on December 12, 2005, The Goldman Sachs Group, Inc. (GS Group) tendered for filing a Petition for Declaratory Order stating that section 203 of the Federal Power Act, as amended, will not apply to certain acquisitions of utility and holding company securities. GS Group further states that accompanying this filing is an Application for Blanket Authorization to Acquire Utility and/or Holding Company Securities, pursuant to, amended section 203(a)(2) of the Federal Power Act, but that the Commission need not act on this latter Application if the Commission grants the declaratory relief.

Comment Date: 5 p.m. eastern time on January 11, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-7933 Filed 12-27-05; 8:45 am]

BILLING CODE 6717-01-P